DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Manufacturers' Unfilled Orders Survey.

OMB Control Number: 0607-0561.

Form Number(s): MA-3000.

Type of Request: Revision of a currently approved collection.

Burden Hours: 3,000.

Number of Respondents: 6,000.

Average Hours Per Response: 30 minutes.

Needs and Uses: The Manufacturers' Shipments, Inventories, and Orders (M3) survey collects monthly data on shipments, inventories, new orders, and unfilled orders from manufacturing companies. The orders, as well as the shipments and inventory data are used widely and are valuable tools for analysts of business cycle conditions, including members of the Council of Economic Advisers, Bureau of Economic Analysis, Federal Reserve Board, Department of the Treasury, and the business community.

New orders serve as an indicator of future production commitments and the data are direct inputs into the leading economic indicator series. New orders, as reported on the M3 monthly survey, are derived by adding shipments to the net change in the unfilled orders from the previous month. The ratio of unfilled orders to shipments is an important indicator of pressure on manufacturing capacity.

The monthly M3 estimates are based on a relatively small panel of domestic manufacturers and reflect primarily the month-to-month changes of large companies. There is a clear need for periodic benchmarking of the M3 estimates to reflect the manufacturing universe. The Economic Census covering the manufacturing sector and the Annual Survey of Manufactures (ASM) provide annual benchmarks for the shipments and inventory data in the monthly M3 survey. The Manufacturers' Unfilled Orders Survey provides the annual benchmarks for the unfilled orders data.

The industries selected for the Manufacturers' Unfilled Orders Survey are those that the U.S. Census Bureau determined maintain considerable unfilled orders. The survey is necessary to ensure future accuracy of the new orders data in the M3 and to determine which NAICS industries continue to maintain unfilled orders.

We plan to add a box for “Change in Operational Status” to the MA-3000 for 2012. This change does not affect burden because the information asked is readily available by the respondents or not applicable to those companies without an operational status change.

The Census Bureau uses the information provided by this survey to develop universe estimates of unfilled orders as of the end of 2011 and 2012, and then adjust the monthly M3 data on unfilled orders to these levels. The benchmarked unfilled orders levels are used to derive estimates of new orders received by manufacturers. New orders are derived using the following formula:

Affected Public: Business or other for-profit.

Frequency: Annually.

Respondent's Obligation: Mandatory.

Legal Authority: Title 13, United States Code, Sections 131, 182, 193, and 224.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: February 6, 2013.
Glenna Mickelson,
Management Analyst, Office of the Chief Information Officer.

[FR Doc. 2013-02994 Filed 2-8-13; 8:45 am]

BILLING CODE 3510-07-P